PRESIDENT'S COUNCIL ON INTEGRITY AND EFFICIENCY

Senior Executive Service Performance Review Board Membership

AGENCY: Office of Inspector General, Department of the Interior.

ACTION: Notice; corrections.

SUMMARY: The Office of Inspector General, Department of the Interior, published a document in the Federal Register of December 5, 2006, concerning the membership of the Senior Executive Service Performance Review Board for the President's Council on Integrity and Efficiency. The document should also have included the Executive Council on Integrity and Efficiency.

FOR FURTHER INFORMATION CONTACT: Eric M. Lippold, 703-487-5371 Corrections.

In the Federal Register of December 5, 2006, in FR Doc. E6-20548, on page 70570, in the third column, correct the “Heading” caption to read:

PRESIDENT'S COUNCIL ON INTEGRITY AND EFFICIENCY EXECUTIVE COUNCIL ON INTEGRITY AND EFFICIENCY.

In the Federal Register of December 5, 2006, in FR Doc. E6-20548, on page 70570, in the third column, correct the “Summary” caption to read:

SUMMARY: This notice sets forth the names and titles of the current membership of the President's Council on Integrity and Efficiency (PCIE) and Executive Council on Integrity and Efficiency (ECIE) Performance Review Board as of October 2, 2006.

In the Federal Register of December 5, 2006, in FR Doc. E6-20548, on page 70570, in the third column, correct the “Supplementary Information” caption to read:

I. Background

The Inspector General Act of 1978, as amended, created the Offices of Inspectors General as independent and objective units to conduct and supervise audits and investigations relating to Federal programs and operations. Executive Order 12301 (March 26, 1981) established the President's Council on Integrity and Efficiency (PCIE). On May 11, 1992, Executive Order 12805 reaffirmed the PCIE and also established the Executive Council on Integrity and Efficiency (ECIE). Both councils are interagency committees chaired by the Office of Management and Budget's Deputy Director for Management. Their mission is to coordinate and enhance governmental efforts to promote integrity and efficiency and to detect and prevent fraud, waste, and abuse in Federal programs. The PCIE is comprised principally of the 29 Presidential appointed Inspectors General (IGs), ECIE members include the 32 Inspectors General appointed by their respective agency heads.

II. PCIE/ECIE Performance Review Board

Under 5 U.S.C. 4314(c)(1)-(5), and in accordance with regulations prescribed by the Office of Personnel Management, each agency is required to establish one or more Senior Executive Service (SES) performance review boards. The purpose of these boards is to review and evaluate the initial appraisal of a senior executive's performance by the supervisor, along with any recommendations to the appointing authority relative to the performance of the senior executive. The current members of the PCIE/ECIE Performance Review Board, as of October 2, 2006, are as follows:

Renee M. Pettis,
Assistant Inspector General for Management.

[FR Doc. E7-11377 Filed 6-12-07; 8:45 am]

BILLING CODE 4310-10-P